DEPARTMENT OF LABOR

Office of the Secretary

Combating Child Labor in Pakistan Through Education

AGENCY: Bureau of International Labor Affairs, Department of Labor.

ACTION: Notice of availability of funds and solicitation for Cooperative Agreement Applications (SGA 02-05).

This Notice Contains All of the Necessary Information and Forms Needed To Apply for Cooperative Agreement Funding.

SUMMARY: The U.S. Department of Labor, Bureau of International Labor Affairs, will award up to U.S. $5 million in funds through a cooperative agreement to an organization or organizations to develop and implement an education project in Punjab province, Pakistan as a means to combat child labor. The education project will work towards reducing child labor by increasing school attendance, reducing school dropout rates and developing labor skills for older children in areas of high prevalence of working children. The program will integrate children removed from child labor into educational settings, and support improvements in the quality of transitional and non-formal education that precedes integration into the formal school system or vocational training. The program will build capacity and mobilize resources to complement the Government of Pakistan's National Plan to Combat Child Labor and Education Sector Reforms Action Plan.

DATES: The closing date for receipt of applications is July 9, 2002. Applications must be received by 4:45 p.m. (Eastern Standard Time) at the address listed below. No exceptions to the mailing and hand-delivery conditions set forth in this notice will be allowed. Applications that do not meet the conditions set forth in this notice will not be honored. Facsimile (FAX) applications will not be honored.

ADDRESSES: Application forms will not be mailed. They are published in this Federal Register Notice, and in the Federal Register which may be obtained from your nearest U.S. Government office or public library or online at http://www.nara.gov/fedreg/nfpubs.html. Applications must be delivered to: U.S. Department of Labor, Procurement Services Center, 200 Constitution Avenue, NW., Room N-5416, Attention: Lisa Harvey, References: SGA 02-05, Washington, DC 20210.

FOR FURTHER INFORMATION CONTACT: Lisa Harvey. E-mail address: harvey-lisa@dol.gov. All inquires should reference SGA 02-05. All applicants are advised that U.S. mail delivery in the Washington, DC area has been slow and erratic due to the recent concerns involving anthrax contamination. All applicants must take this into consideration when preparing to meet the application deadline. It is recommended that you confirm receipt of your application by contacting Lisa Harvey, U.S. Department of Labor, Procurement Services Center, telephone (202) 693-4570 (this is not a toll-free number), prior to the closing deadline. All inquiries should reference SGA 02-05.

SUPPLEMENTARY INFORMATION: The Bureau of International Labor Affairs (ILAB), U.S. Department of Labor (USDOL or Department), announces the availability of funds to be granted by cooperative agreement to expand access to education in Punjab province, Pakistan to children engaged in child labor or at risk of entering the work force. The cooperative agreement will be managed by ILAB's International Child Labor Program (ICLP), to assure achievement of the stated goals. Applicants are encouraged to be creative in proposing cost-effective interventions that will have a demonstrable impact in using education as a means of reducing child labor in Pakistan.

I. Background and Program Scope

A. USDOL Support of the Global Elimination of Child Labor

The International Labor Organization estimates that there are 250 million working children between the ages of five and 14 in developing countries, about half of whom work full-time. Full-time child workers are generally unable to attend school, and from an early age part-time child laborers must balance economic survival with schooling, often to the detriment of their education.

The existence of child labor has many implications for a country. Education is a key investment that has been linked to the acceleration of a nation's productivity and socioeconomic development. Poorly educated workers tend to earn less, live in poverty, and may need to send their own children to work at a young age.

Since 1995, as mandated by the U.S. Congress, USDOL has supported a worldwide technical assistance program by the International Labor Organization's International Program on the Elimination of Child Labor (ILO/IPEC). USDOL contributions to date to ILO/IPEC have amounted to some $112 million, making the United States the program's largest donor and a leader in global efforts to combat child labor. In USDOL's FY 2001 and FY 2002 appropriations, in addition to $90 million in funds earmarked for ILO/IPEC, the Department received $74 million for an Education Initiative that will fund programs that increase access to quality, basic education in areas with a high incidence of child labor. The cooperative agreement awarded under this solicitation will be funded by this new initiative.

USDOL's Child Labor Education Initiative nurtures the development, health, safety and enhanced future employability of children around the world by increasing access to basic education for children removed from child labor or at risk of entering it. Child labor elimination will depend in part on improving access to, quality of, and relevance of education. Without improving educational quality and relevance, children withdrawn from child labor may not have viable alternatives and could resort to other forms of hazardous work.

The Education Initiative has the following four goals:

1. Raise awareness of the importance of education for all children and mobilize a wide array of actors to improve and expand education infrastructures;

2. Strengthen formal and transitional education systems that encourage working children and those at risk of working to attend school;

3. Strengthen national institutions and policies on education and child labor; and

4. Ensure the long-term sustainability of these efforts.

B. USDOL Involvement in Combating Child Labor in Pakistan

USDOL's ICLP has been involved in combating child labor in Pakistan since 1997. Appendix C highlights some of the projects that USDOL has supported in the country. In June 2001, the ICLP engaged in consultations with the Pakistan Ministries of Education and Labor to discuss means by which the Department could further support efforts to combat child labor with funding from the USDOL's Child Labor Education Initiative. These discussions led to an agreement between USDOL and the Ministry of Education to finance a U.S. $5 million project to support the education of child laborers and children at risk of entering the child labor market in the province of Punjab, with interventions focusing on districts with a high incidence of child labor.

The USDOL project will operate within a complex implementing environment that is described in Appendix D. Key considerations within this implementing environment are the barriers to education that working children and those at risk of entering the work force must confront. Other significant factors are Government of Pakistan policy frameworks including the National Policy and Action Plan to Combat Child Labor and the Education Sector Reforms Action Plan, both of which identify strategies and support emerging approaches to addressing the issues of child labor and barriers to education.

The objective of USDOL's continued involvement in Pakistan and the funding provided under this solicitation is to: (1) Address barriers to education faced by working children or those at risk of working; (2) complement the Child Labor and Education Sector Reform Action Plans of the Government of Pakistan, and (3) build on the achievements and lessons learned by child labor and education projects that have already been implemented in that country. It is USDOL's intent that Child Labor Education Initiative funding be used to support the education component of child labor projects of organizations already combating child labor in Punjab province. It is also USDOL's intent to encourage innovative ideas from other organizations that would bring more of the targeted children into educational settings and prevent them from reentering the labor force.

C. Barriers to Quality Education for Working Children in Pakistan

Within the context of the implementing environment described in Appendix D, there are a number of obstacles and barriers that affect the decisions or ability of Pakistani families, and in particular families of working children, to send their children to school. The barriers have an impact on the high rate of dropout from school and entry of children into the labor force at an early age also described in Appendix D. The applicant needs to consider these barriers in the development of responses to this solicitation. Some of the major barriers to education in Pakistan include:

1. Lack of Knowledge and Awareness

There are a number of factors in this category that act as impediments for working children to gain access to school. These include:

• Parents' illiteracy and resignation

Parents of working children in Pakistan are often themselves uneducated or illiterate. Because of the multiple economic and social constraints that they and their children face, they are often reluctant to send their children to school rather than to work. Furthermore, they may also feel powerless to changing conditions that have reproduced themselves for generations, and that promote child labor. Given few other social or economic options, some families, including children themselves, may also highly value the contribution that children make to family survival.

• Lack of awareness by social partners of their potential role in reducing child labor and promoting school attendance

Many social partners including NGOs, the media, the military, the corporate sector, faith-based organizations and religious leaders, local authorities, Pakistani expatriates, and even private individuals may be generally aware of child labor or the lack of access of these children to school, but certain partners may not understand or have enough information on the effects of child labor on society, and on the specific deficiencies that manifest themselves in individual communities. They may also not know how they could contribute to concrete actions to reduce child labor and promote school attendance in those communities. Often more knowledge of specific needs may be a catalyst that enables social partners to act and to mobilize their respective networks to combat the problem and propose viable solutions.

• Lack of awareness of new child labor and education policies and strategies

National Child Labor and Education policies and action plans, and those of the President Musharraf's Task Force on Human Development (TFHD), are relatively new and may not be well known or understood by individuals, local leaders and communities. This knowledge includes the practical aspects of decentralization promoted in education sector reform, and the targets and strategies that the government has chosen to reduce child labor and achieve Education for All Targets (to which the Government of Pakistan committed as part of the 2000 World Education Forum's Dakar Framework for Action). This lack of knowledge may inhibit effective implementation at the local level of national policies and plans.

2. Education System Constraints

There are a number of barriers of the education system that lead children to drop out of school and join the work force. These include:

• Lack of knowledge on children's education needs

Children have different learning styles and abilities. If these differences are not understood, teachers and the school system may not be able to improve and maximize learning outcomes. For example, preliminary research by UNICEF in Punjab indicates that some children may drop out early and enter the labor force because of learning disabilities. Girls and boys, particularly those who work or who have been removed from work, may need specific approaches to ensure their more effective attendance and participation in school. Yet many teachers and school administrators in Pakistan may not fully understand these factors that would lead to a more successful integration or reintegration of children into school settings.

• Irrelevant curriculum

A recent study in Pakistan indicated that irrelevant curriculum and harsh conditions of learning contribute to a low completion rate and a high drop out rate (SPARC, The State of Pakistan's Children, 1999, Islamabad, January, 2000, p. 19). A common method of teaching in Pakistan is based on the rote memorization of lessons with little or no attention given to the student's cognitive development and skills associated with reading, writing, math and science, and their eventual practical application to life and work. With school having such little relevance to the improvement of their lives, many parents may feel that it is unnecessary to send their children to school because the education they are receiving is not preparing them for a productive future. The children are then removed from school and enter the work force.

• Inadequately trained teachers with low motivation

Teachers in government-sponsored schools (where many working children or children at risk of working attend) are largely untrained, under-paid and have little or no previous classroom experience before being hired. In Pakistan, hiring of teachers and school administrators may be based on favoritism rather than skills. Many teachers are not familiar with curriculum development or basic classroom instruction. Even teachers working for NGOs involved in child labor projects have had relatively little training. Furthermore, many rural teachers face difficult working conditions with large class sizes in one room requiring the teacher to be involved in multi-grade instruction. At the same time lack of supervision, training and motivation by school administrators exacerbates high teacher absenteeism. Under these conditions, it is not surprising that child labor may appear to be a better option for families.

• Limited access to quality vocational education

The parents of many older children and the children themselves often realize that they cannot or will not finish primary school and continue onto secondary or university education. Often technical or vocational education is a preferred option. In Pakistan there are many challenges to obtaining good vocational education. Government programs are not sufficient relative to need, are not necessarily of high quality, nor do they lead to employment in leading sectors. They also tend to focus on preparing boys. Programs run by the private sector or employers associations, such as the Skills Development Council of Punjab, tend to be of higher quality and lead to better employment after completion. This is in part because of the labor market research done by the private sector before launching skills training programs. Yet working children may not be able to gain access to these programs because they are unaffordable, or because they do not meet minimum literacy and numeracy requirements. If they are school dropouts, they likely do not meet the minimum age or prerequisite academic standards. Ill prepared academically and unable to obtain more desirable and marketable skills, older children, although still below legal working age, may have little recourse than to enter into less attractive apprenticeships or employment that may be exploitative and abusive.

3. Institutional and Policy Challenges

• Lack of data on educational access and performance to inform policy

There are many challenges to estimating the number of children engaged in child labor, and even less is known about their education needs, and the correlations among school attendance and performance, drop out and child labor. This is one reason why Government of Pakistan action plans on child labor and education identify database and information collection as areas of need. Lack of data is a major gap to developing improved policies and programs.

• Limited coordination among social actors

Pakistan's National Policy and Action Plan to Combat Child Labor highlights the importance of coordination among social actors. The experience of the National Steering Committee formed as part of ILO/IPEC efforts to address child labor show that it is a continuing challenge to achieve and sustain coordination, particularly at both national and provincial levels, among different government agencies, non-governmental organizations and employers.

• Limited local government capacity to implement devolution and decentralization of education

Although decentralization of education has begun as part of the sector's reform, it will test the abilities of local government structures. These organizations may not have experience or capacity in many areas such as educational planning, resource allocation, monitoring, and accountability to communities for educational quality.

• Limited community capacity to implement decentralization and improve monitoring and performance of education

The education reform counts on community structures and organizations to improve educational quality and performance. For example, the Local Government Ordinance of 2001 calls for the establishment of Citizen Community Boards and Monitoring Committees in order to ensure effective community participation. Other community organizations include School Management Committees (SMCs), School Councils, Community Public Partnerships (CPPs), Parent Teacher Associations (PTAs) and mother's groups. Yet in many communities in Punjab province these organizations are non-existent, embryonic or weak.

The level of inequality found in the rural areas of Punjab also affects community capacity to monitor the quality of education. The rural population tends to be marginalized from the county's mainstream economy and political influence. A majority of children in rural areas in Punjab enroll in government-sponsored schools, many of which are not suited to deliver quality education. Those at the bottom of the social ladder may also feel powerless to influence the quality of the education received by their children. This phenomenon explains the emphasis that Child Labor and Education Sector Reform Action Plans give to community mobilization and empowerment.

4. Resource Constraints

• Poverty and the inability to pay fees associated with school attendance

One reason for the high school dropout rate is that parents with low wages are unable to cover the fees associated with paying for textbooks, supplies and other school costs. In Pakistan these direct costs can reach up to 20 percent of a family's income, making education unaffordable to many families. When these fees are compounded with the lost wages of the child removed from labor, the costs are prohibitive and are a disincentive to school attendance.

• Nonexistent or poor school infrastructure

The abject condition of Pakistan's physical school infrastructure due to misappropriation or lack of resources has also seriously weakened the county's education system. According to the U.S. Embassy in Islamabad (U.S. Embassy, Pakistan, “The Dismal State of Education in Pakistan,” p. 3), it is estimated that in Pakistan there are 19,000 schools that do not have any type of formal structure and are simply known as “shelter-less” schools. Furthermore, in some places there are no schools or “ghost schools” that should have been constructed but were not because of misappropriation of resources. The Embassy also reports that approximately 93,000 schools have no electricity, 68 percent lack running water, and 70 percent lack latrines. The lack of proper hygienic facilities has played a key role in parents not allowing their daughters to attend school.

In the case of child workers or children removed from labor, there may not be alternative schools or infrastructure to support non-formal or transitional education that precedes their integration into formal or vocational school. For these children the Ministry of Education has encouraged the use of government school facilities. The infrastructure at these facilities is often deficient. Also, since classes are often held outside of normal school hours children may be too tired after work to fully concentrate. Children may thus not even complete non-formal and transitional programs and return to child labor.

• Limited resources for education

Although the public sector resources devoted to education have dramatically increased under the education sector reform plan, they are still insufficient relative to need and the Government of Pakistan has admitted that the public sector cannot do it alone. In the case of resources devoted to the education of child laborers, these resources have also been limited when compared to needs. Schools that have opened under child labor projects have tended to generate demand for education by families of children not included in the project. For example, many of the beneficiaries of the schools for child carpet weavers are girls. Although parents have enthusiastically enrolled them in project-sponsored schools, they also complain that there are no similar facilities for their boys who may not be able to go to school at all. Because of resource constraints the government has encouraged other alternatives that mobilize resources for education. These include those that bring in the private sector and civil society as detailed in Appendix D.

All of the above-cited barriers to school attendance manifest themselves acutely in the province of Punjab where this project will be implemented. Punjab has one of the largest populations in Pakistan and one of its most widespread problems is illiteracy. A 1998 government census reported the total literacy rate for rural areas in Punjab to be just above 40 percent, while the literacy rate in urban areas of the province is nearly 65 percent. The recent National Literacy Campaign, which is being sponsored by the government and will run from 2001-2004, is aimed at increasing literacy and granting access to quality education.

II. Authority

ILAB is authorized to award and administer this program as set forth in the Consolidated Appropriations Act, 2001, Public Law 106-554, 114 Stat. 2763A-10 (2000).

III. Application Process

A. Eligible Applicants

Any commercial, international, or non-profit organization capable of successfully developing and implementing education programs for child labor is eligible for this cooperative agreement. Although only one cooperative agreement will be awarded, partnerships of more than one organization are also eligible, and applicants are strongly encouraged to consider working with organizations already in Pakistan (See Appendix E). In the case of partnerships, a lead organization must be identified. The capability of an applicant or applicants to perform necessary aspects of this solicitation will be determined under the Rating Criteria.

Please note that eligible cooperative agreement applicants must not be classified under the Internal Revenue Code as a 501(c)(4) Entity. See 26 U.S.C. 501 (c)(4). According to section 18 of the Lobbying Disclosure Act of 1995, an organization, as described in section 501(c)(4) of the Internal Revenue Code of 1986, that engages in lobbying activities will not be eligible for the receipt of federal funds constituting an award, grant, or loan.

B. Submission of Applications

One (1) ink-signed original, complete application in English plus two (2) copies of the application, must be submitted to the U.S. Department of Labor, Procurement Services Center, 200 Constitution Avenue, NW., Room N-5416, Washington, DC 20210, not later than 4:45 p.m. Eastern Time, July 9, 2002. Accompanying documents must also be in English. To aid with review of applications, USDOL also encourages applicants to submit two additional paper copies of the application (five total). Applicants who do not provide additional copies will not be penalized.

The application must consist of two (2) separate parts. Part I of the application must contain the Standard Form (SF) 424, “Application for Federal Assistance” (Appendix A) (The entry on SF 424 for the Catalog of Federal Domestic Assistance Number (CFDA) is 17.700) and sections A-F of the Budget Information Forms SF 424A (Appendix B). Part II must contain a technical proposal that demonstrates capabilities in accordance with the Statement of Work and the selection criteria.

To be considered responsive to this solicitation, the application must consist of the above-mentioned separate parts, not to exceed 30 single-sided (8 ½″ x 11″), double-spaced, 10-12 pitch typed pages. ANY APPLICATIONS THAT DO NOT CONFORM TO THESE STANDARDS MAY BE DEEMED NON-RESPONSIVE TO THIS SOLICITATION AND MAY NOT BE EVALUATED. Standard forms and attachments are not included in the page limit. Each application must include a table of contents and an abstract summarizing the proposal in not more than two (2) pages. These pages are also not included in the page limits.

Upon completion of negotiations, the individual signing the SF 424 on behalf of the applicant must be authorized to bind the applicant.

C. Acceptable Methods of Submission

The grant application package must be received at the designated place by the date and time specified or it will not be considered. Any application received at the Office of Procurement Services at 4:45 pm Eastern Time, July 9, 2002, will not be considered unless it is received before the award is made and:

1. it was sent by registered or certified mail not later than the fifth calendar day before July 9, 2002;

2. it is determined by the Government that the late receipt was due solely to mishandling by the Government after receipt at the U.S. Department of Labor at the address indicated; or

3. it was sent by U.S. Postal Service Express Mail Next Day Service-Post Office to Addressee, not later than 5 pm at the place of mailing two (2) working days, excluding weekends and Federal holidays, prior to July 9, 2002.

The only acceptable evidence to establish the date of mailing of a late application sent by registered or certified mail is the U.S. Postal Service postmark on the envelope or wrapper and on the original receipt from the U.S. Postal Service. If the postmark is not legible, an application received after the above closing time and date shall be processed as if mailed late. “Postmark” means a printed, stamped or otherwise placed impression (not a postage meter machine impression) that is readily identifiable without further action as having been applied and affixed by an employee of the U.S. Postal Service on the date of mailing. Therefore applicants should request that the postal clerk place a legible hand cancellation “bull's-eye” postmark on both the receipt and the envelope or wrapper.

The only acceptable evidence to establish the date of mailing of a late application sent by U.S. Postal Service Express Mail Next Day Service-Post Office to Addressee is the date entered by the Post Office receiving clerk on the “Express Mail Next Day Service-Post Office to Addressee” label and the postmark on the envelope or wrapper and on the original receipt from the U.S. Postal Service. “Postmark” has the same meaning as defined above. Therefore, applicants should request that the postal clerk place a legible hand cancellation “bull's-eye” postmark on both the receipt and the envelope or wrapper.

The only acceptable evidence to establish the time of receipt at the U.S. Department of Labor is the date/time stamp of the Procurement Services Center on the application wrapper or other documentary evidence or receipt maintained by that office.

Applications sent by e-mail, telegram, or facsimile (FAX) will not be accepted. Applications sent by other delivery services, such as Federal Express, UPS, etc., will be accepted, however, the applicant bears the responsibility for timely submission. Because of delay in the receipt of mail in the Washington, DC area, it is recommended that you confirm receipt of your application by contacting Lisa Harvey, U.S. Department of Labor, Procurement Services Center, telephone (202) 693-4570 (this is not a toll-free number), prior to the closing deadline. All inquiries should reference SGA 02-05.

D. Funding Levels

Up to US $5 million is available for this program. Although USDOL will award only one cooperative agreement (hereafter referred to as “grant”), a partnership of more than one organization may apply to implement the program. (See Section III.B, Submission of Applications).

E. Program Duration

The duration of the activities funded by this SGA is four (4) years. The start date of activities will be negotiated upon awarding of grant.

IV. Requirements

A. Statement of Work

The applicant will propose creative and innovative approaches aimed at reducing child labor in Pakistan by increasing school attendance and developing youth labor skills in areas of high prevalence of economically active children. In proposing approaches the applicant should explain how the activities or services provided under this grant will address the barriers to education cited in Section I.C above and, where relevant, suggest ways to use emerging approaches to address these barriers (see Appendix D). The project's geographical target area is the province of Punjab, which has a high incidence of child labor and low educational access. The project may include the districts of Faisalabad, Kasur, Gujranwala, Sheikhupura and other districts to be determined with the Ministries of Education and Labor during the first three months of the project. The exact number of communities and children to benefit from this Education Initiative project will be identified in collaboration with local authorities, and will support Pakistan's decentralization and devolution strategies, the federal Ministry of Education's Education Sector Reforms Action Plan, and the Ministry of Labor's Action Plan on Child Labor. The number of communities and beneficiaries chosen should correspond to the budget proposed for the major activities deemed essential to desired project outcomes.

In developing a proposal, the applicant should take into account the challenges to preventing child labor, reintegrating working children into educational settings, promoting school attendance, addressing the high dropout rate, and improving school relevance. They should also consider the implementing environment in Pakistan outlined in Appendix D of this solicitation, and background information (See Appendix F) available from Lisa Harvey, U.S. Department of Labor, Procurement Services Center, telephone (202) 693-4570 (this is not a toll-free number), e-mail address: harvey-lisa@dol.gov. All inquires should reference SGA 02-05.

The applicant will propose approaches that will meet the education needs of the identified target beneficiaries in Pakistan: (1) Children of primary school age (ages five-ten) through grade 5 at risk of dropping out of school and entering child labor, (2) children under age 10 not attending school and already engaged in child labor, and (3) older youth (ages 10-18) requiring pre-vocational and vocational education to enhance job and self-employment skills. The approach suggested by the applicant will include actions that promote an enabling environment at the national and provincial levels, and specific interventions at the local level in support of the education of target children. The expected outcomes of the project will be to: (1) Decrease school dropout of primary school aged children who are at risk of entering the labor force by increasing the quality of education; (2) increase educational opportunities (including mainstreaming into the formal school or vocational system) for primary school age children who have dropped out of school and have entered the labor force; and (3) increase access of older children (above age ten) to skills and vocational education leading to improved employment at legal working age. Within these groups, special attention should be given to children in the worst forms of child labor. The applicant is also encouraged to include as project beneficiaries children in areas where USDOL-funded IPEC project are operating. (See Appendix C).

The project shall support the goals of USDOL's Child Labor Education Initiative: (1) Raise awareness of the importance of education for all children and mobilize a wide array of actors to improve and expand education infrastructures; (2) Strengthen formal and transitional education systems that encourage working children and those at risk of working to attend schools; (3) Strengthen national institutions and policies on education and child labor; and (4) Ensure the long-term sustainability of these efforts.

In order to avoid duplication, enhance collaboration, expand impact, and develop synergies, the organization(s) awarded the cooperative agreement (hereafter referred to as “Grantee”) will consult with Pakistani stakeholders in developing project interventions. The Federal Ministry of Education is the lead ministry for this initiative, but close coordination and consultation will also be required with the federal Ministry of Labor, Secretary of Labor and Manpower-Punjab, Punjab Commission for Child Welfare and Development, the village, local and District Coordination Officer, non-governmental organizations, national steering/advisory committees on child labor and education, and child laborers, those at risk and their families.

Below is a summary of specific requirements to guide applicants in the development of responses to this solicitation. Although the USDOL is open to all proposals for innovative solutions to address the challenges of providing access to education to the target population, the applicant must at the minimum propose approaches to address barriers to education in the following areas of implementation:

1. Awareness raising to reduce child labor and promote school attendance

This component aims to use awareness raising campaigns to inform and mobilize strong local and national commitment to support concrete actions that reduce child labor and promote school attendance.

a. Development of communication strategy. The applicant should propose an approach to develop a communication strategy to raise awareness and influence behavior of multiple key actors to promote school attendance and reduce child labor. On the basis of the strategy, the applicant should propose key audiences for awareness raising campaigns.

b. Approaches to community mobilization. The applicant should suggest approaches to mobilize local communities to increase parental participation and encourage the establishing and strengthening of community structures. The approach can include ideas to promote the development of working and task-oriented multi-sectoral or public-private partnerships at the community and regional levels to combat child labor, promote school attendance, and improve education infrastructure in areas of high incidence of child labor. The suggested approach should support Pakistan's decentralization and devolution process, and Local Government Ordinance of 2001.

c. Mobilization of Pakistani expatriates. The applicant should propose how to support the Ministry of Education's newly developed initiative aimed at facilitating support to education in target areas of project intervention by Pakistani expatriates. The applicant should propose how to coordinate this strategy with the Ministry of Labor and Overseas Pakistanis.

2. Strengthening of education systems to reduce child labor, promote school attendance, and reintegrate child laborers into education settings

Strategies to strengthen the education systems to address needs of target children should focus on: (1) Younger children still within the formal education system to prevent their dropout into child labor and increase their completion of primary school; (2) out-of-school children of primary school age who are working, and (3) older children (above age 10) to either reintegrate them into school, or improve their job and self-employment skills once they reach legal working age. The latter approach may have to vary depending on the age of the children and their former experience in the education system. As part of its proposed strategies the applicant should suggest activities in the areas listed below and, if deemed important, alternate innovative areas not identified in this solicitation.

a. Identification of beneficiaries. The applicant should propose an approach to identify the number and location of target communities, interventions and the numbers of children to be targeted. The applicant should propose an approach to collect baseline data on these beneficiaries.

b. Professional development for teachers and administrators. The applicant should identify how to improve the knowledge, skills, morale and professionalism of teachers and education administrators so that they may better address the education needs of the target population, especially children who have dropped out to work or have never been to school. To encourage sustainability, suggested approaches to teacher training should indicate what links might be forged with existing teacher training institutions in Pakistan.

c. Methods to assess learning, aptitudes and skills. The applicant should suggest a simple, yet effective approach to assess the learning, aptitudes and skills of children to be targeted by the project. In developing the approach, the applicant should indicate how it would design the program so that it relates to the goals of Pakistan's National Education Assessment System (NEAS). The applicant should also identify what instruments it might use for data collection, how the data would be synthesized, and how it would be fed back to educators and planners working in the areas of education and child labor.

d. Development of targeted vocational education programs. The applicant should suggest approaches to develop and implement pre-vocational and vocational training skills for employment and self-employment that lead to enhanced future employability of youth. The applicant should also suggest what approaches might be used for job placement or self-employment after training.

e. Development of school enrichment programs. The applicant should suggest means to develop school enrichment programs or other programs that would motivate parents to send their children to school. The approaches suggested should be innovative and can include public-private partnerships, development of volunteer programs, or other incentives.

3. Strengthening of institutions and policies to reduce child labor, promote school attendance, and reintegrate child laborers into education settings.

This component should promote approaches to create accountability mechanisms to document the problem and monitor (in partnerships with civil society organizations) the progress in reaching target communities in the prevention of child labor through school retention, and reintegration of children into education settings in lieu of work. The purpose of institutional strengthening would be to develop responsive, participatory and accountable systems of educational governance and management that directly impact the education of target children. Specifically the applicant should propose approaches to implementation in the following areas:

a. Data Collection and Policy Analysis. The applicant should suggest an approach to improve the capacity of governmental and non-governmental organizations to collect data to inform policy on education and child labor and allocate government resources to further increase the quality of education. These data could include correlations among school attendance, performance, dropout and child labor. The approach should take into consideration data collection systems of the Ministries of Education and Labor.

b. Strengthening Capacity to Implement Decentralization. The applicant should suggest which major institutions and individuals could be targeted, and what types of capacity building activities could be undertaken to enable them to engage in actions that benefit target children and their families and support the Ministry of Education's decentralization strategy. As part of this approach the applicant should propose how the project could provide assistance to strengthen the capacity of community organizations or form new ones that would effectively advocate for quality education for target children.

c. Strengthening of Monitoring Capacity. The applicant should suggest approaches to strengthen the capacity of government and key civil society and community organizations to monitor and follow up on the education of child laborers and children at risk of being recruited into the work force. The applicant should suggest how community monitoring would complement and strengthen government monitoring, and how this capacity would be developed.

d. Facilitation of Inter-Institutional Coordination. The applicant should suggest what approaches could be used to facilitate and enhance inter-institutional coordination capacity of major actors working in education and child labor. These would include governmental and non-governmental organizations. Specifically, the applicant will identify what would be the expected outcome of the improved coordination (e.g., improved implementation of existing policies and laws on school attendance and child labor in target areas of project intervention; coordinated planning, etc.).

4. Resource Mobilization.

This component will build capacity to mobilize resources for public or other schools in areas of high child labor where project interventions are located.

a. Internal Resource Mobilization. The applicant should suggest ways to mobilize resources for education within Pakistan such as through public-private partnerships like the Adopt-a-School programs (see Appendix D), corporate and private sector contributions and philanthropy, volunteer programs, and resource mobilization by community and faith-based organizations. These resources would be used specifically to address the education needs of child laborers and children at risk of entering child labor. The approach suggested should include ways in which gaps and barriers to the education of target children would be identified; how education infrastructure might be built and/or repaired; what incentives would be provided for training and professional development of school staff members, and how schools supported by these efforts would make education relevant and inclusive of those children who have been traditionally excluded from quality education.

b. Cost of Schooling. Since the direct cost of schooling is a major problem for families of working children in Pakistan, the applicant will propose approaches to address this impediment.

c. Mobilizing Resources from Overseas Pakistanis. The applicant should propose a mechanism to support and implement the Ministry of Education's newly developed initiative aimed at facilitating support to education by Pakistani expatriates. The applicant should show how the proposed approach would be linked to the awareness-raising strategy previously proposed, and how it would be targeted specifically to schools benefiting from the project interventions.

In implementing the proposed scope of work, the applicant should design approaches that encourage sustainability of impact on individuals, organizations and system-wide.

In addition to meeting these requirements, the Grantee also will be expected to monitor the implementation of the program, report to USDOL on a quarterly basis, and evaluate program results. The grant will include funds to plan, implement and evaluate programs and activities, conduct various studies pertinent to project implementation, and to establish education baselines to measure program results. The Grantee must develop annual work plans that will be approved by USDOL. Corresponding indicators of performance will also be developed by the Grantee and approved by USDOL.

B. Deliverables

Unless otherwise indicated, the Grantee must submit copies of all required reports to ILAB by the specified due dates. Other documents, such as project design documents, are to be submitted by mutually agreed upon deadlines.

1. Project Design. A project document to be established by ILAB in the logical framework format will be used, and will include a background/justification section, project strategy (objectives, outputs, activities, indicators, means of verification), project implementation timetable and project budget. The project design will be drawn from the proposal written in response to this solicitation and negotiations with ILAB on final design. The document will also include sections that address coordination strategies, project management and sustainability. The time for delivery of this document will be negotiated at the time of the award.

2. Technical and Financial Progress Reports. The Grantee must furnish a typed technical report to ILAB on a quarterly basis by 31 March, 30 June, 30 September, and 31 December. The Grantee must also furnish a separate financial report (SF 272) to ILAB on the quarterly basis mentioned above. The format for the technical progress report will be the format developed by ILAB and must contain the following information:

a. For each project objective, an accurate account of activities carried out under that objective during the reporting period;

b. An accounting of staff and any subcontractor hours expended;

c. An accounting of travel performed under the cooperative agreement during the reporting period, including purpose of trip, persons or organizations contacted, and benefits derived;

d. A description of current problems that may impede performance, and proposed corrective action;

e. Future actions planned in support of each project objective;

f. Aggregate amount of costs incurred during the reporting period; and

g. Progress on indicators (to be reported annually).

3. Annual Work Plan. An annual work plan will be developed within two months of project award and approved by ILAB so as to ensure coordination with other relevant actors in Pakistan. Subsequent annual work plans will be delivered no later than one year after the previous one.

4. Monitoring and Evaluation Plan. A monitoring and evaluation plan will be developed, in collaboration with ILAB, including beginning and ending dates for the project, planned and actual dates for mid-term review, and final end of project evaluations. The plan will identify indicators of performance to be reported annually. The monitoring plan will be prepared after completion of baseline surveys, including revision of indicators provided in project document, targets, and means of verification.

5. Evaluation Reports. The Grantee and the Grant Officer's Technical Representative (GOTR) will determine on a case-by-case basis whether mid-term evaluations will be conducted by an internal or external evaluation team. All final evaluations will be external in nature. The Grantee must respond to any comments and recommendations resulting from the review of the mid-term report.

C. Production of Deliverables

1. Materials Prepared Under the Cooperative Agreement. The Grantee must submit to ILAB all media-related and educational materials developed by it or its sub-contractors before they are reproduced, published, or used. ILAB considers that educational materials include brochures, pamphlets, videotapes, slide-tape shows, curricula, and any other training materials used in the program. ILAB will review materials for technical accuracy. The Grantee must obtain prior approval from the Grant Officer from all materials developed or purchased under this cooperative agreement. All materials produced by Grantee must be provided to ILAB in a digital format for possible publication by ILAB.

2. Acknowledgement of USDOL Funding. In all circumstances the following must be displayed on printed materials:

“Preparation of this item was funded by the United States Department of Labor under Cooperative Agreement No. E-9-X-X-XXXX.”

When issuing statements, press releases, requests for proposals, bid solicitations, and other documents describing projects or programs funded in whole or in part with Federal money, all Grantees receiving Federal funds, including State and local governments and recipients of Federal research grants, must clearly state:

1. The percentage of the total costs of the program of project which will be financed with Federal money;

2. The dollar amount of Federal funds for the project or program; and

3.The percentage and dollar amount of the total costs of the project or program that will be financed by non-governmental sources.

In consultation with ILAB, USDOL's role will be identified as one of the following:

a. The USDOL logo may be applied to USDOL-funded material prepared for world-wide distribution, including posters, videos, pamphlets, research documents, national survey results, impact evaluations, best practice reports, and other publications of global interest. The Grantee will consult with USDOL on whether the logo should be used on any such items prior to final draft or final preparation for distribution. In no event will the USDOL logo be placed on any item until USDOL has given the grantee written permission to use the logo, after obtaining appropriate internal USDOL approval for use of the logo on the item.

b. If ILAB determines the use of the logo is not appropriate and does not give written permission, the following notice must appear on the document:

“The document does not necessarily reflect the views or policies of the U.S. Department of Labor, nor does mention of trade names, commercial products, or organizations imply endorsement by the U.S. Government.”

D. Administrative Requirements

1. General. Grantee organizations are subject to applicable Federal laws (including provisions of appropriations law) and the applicable Office of Management and Budget (OMB) Circulars. Determinations of allowable costs will be made in accordance with the applicable Federal cost principles. The cooperative agreement awarded under the SGA is subject to the following administrative standards and provision, if applicable:

29 CFR Part 36—Federal Standards for Nondiscrimination on the Basis of Sex in Education Programs or Activities Receiving Federal Financial Assistance.

29 CFR Part 93—New Restrictions on Lobbying.

29 CFR Part 95—Uniform Administrative Requirements for Grants and Agreements with Institutions of Higher Education, Hospitals and Other Non-Profit Organizations, and with Commercial Organizations, Foreign Governments, Organizations Under the Jurisdiction of Foreign Governments and International Organizations.

29 CFR Part 96—Federal Standards for Audit of Federally Funded Grants, Contracts and Agreements.

29 CFR Part 98—Federal Standards for Government-wide Debarment and Suspension (Nonprocurement) and Government-wide Requirements for Drug-Free Workplace (Grants).

29 CFR Part 99—Federal Standards for Audits of States, Local Governments, and Non-Profit Organizations.

2. Sub-contracts. Sub-contracts must be awarded in accordance with 29 CFR 95.40-48. In compliance with Executive Orders 12876 as amended, 13230, 12928 and 13021 as amended, the Grantee is strongly encouraged to provide sub-contracting opportunities to Historically Black Colleges and Universities, Hispanic-Serving Institutions and Tribal Colleges and Universities.

3. Key Personnel. The applicant shall list individual(s) who has (have) been designated by the Grantee as having primary responsibility for the conduct and completion of all project work. The applicant will submit written proof that key personnel will be available to begin work on the project no later than three weeks after award. The Grantee agrees to inform the GOTR whenever it appears impossible for these individual(s) to continue work on the project as planned. The Grantee may nominate substitute personnel and submit the nominations to the GOTR; however, the Grantee must obtain prior approval from the Grant Officer for all key personnel. If the Grant Officer is unable to approve the personnel change, he/she reserves the right to terminate the cooperative agreement.

4. Encumbrance of Cooperative Agreement Funds. Cooperative agreement funds may not be encumbered/obligated by the Grantee before or after the cooperative agreement obligations period may be liquidated (paid out) after the end of the cooperative agreement period. Such encumbrances/obligations shall involve only specified commitments for which a need existed during the grant period and which are supported by approved contracts, purchase orders, requisitions, invoices, bills, or other evidence of liability consistent with the Grantee's purchasing procedures and incurred within the cooperative agreement period. All encumbrances/obligations incurred during the cooperative agreement period shall be liquidated within 90 days after the end of the grant period, if practicable.

5. Site Visits. USDOL, through its authorized representatives, has the right at all reasonable times, to make site visits to review project accomplishments and management control systems and to provide such technical assistance as may be required. If USDOL makes any site visit on the premises of a Grantee or sub-contractor(s) under this grant, the Grantee shall provide and shall require its sub-contractors to provide all reasonable facilities and assistance for the safety and convenience of the Government representatives in the performance of their duties. All site visits and evaluations shall be performed in a manner that will not unduly delay the work.

V. Review and Selection of Applications for Grant Award

A. The Review Process

USDOL will screen all applications to determine whether all required elements are present and clearly identifiable. Each complete application will be objectively rated by a technical panel against the criteria described in this announcement. Applications are advised that the panel recommendations to the Grant Officer are advisory in nature. The Grant Officer may elect to select a Grantee(s) on the basis of the initial proposal submission; or, the Grant Officer may establish a competitive or technically acceptable range for the purpose of selecting qualified applicants. If deemed appropriate, following the Grant Officer's call for the preparation and receipt of final revisions of proposals, the evaluation process described above will be repeated to consider such revisions. The Grant Officer will make final selection determination based on what is most advantageous to the Government, considering factors such as: panel findings and the availability of funds, and other factors. The Grant Officer's determination for award under this SGA 02-05 is final.

Note: Selection of an organization as a cooperative agreement recipient does not constitute approval of the cooperative agreement application as submitted. Before the actual cooperative agreement is awarded, USDOL may enter into negotiations about such items as program components, funding levels, and administrative systems. If the negotiations do not result in an acceptable submission, the Grant Officer reserves the right to terminate the negotiation and decline to fund the proposal.

B. Rating Criteria and Selection

The technical panel will review applications against the various criteria on the basis of 100 points with an additional five points available for non-federal or leveraged resources.

The factors are presented in the order of emphasis that they will receive.

1. Approach, Understanding of the Issue, and Budget Plan (40 points).

a. Overview. This section of the proposal must explain:

(1) The applicant's proposed innovative method for performing all the specific areas of work requirements presented in this solicitation.

(2) The expected outcomes over the period of performance for each of the tasks; and

(3) The approach for producing the expected outcomes.

The applicant must describe in detail the proposed approach to comply with each requirement in Section IV.A of this solicitation, including all tasks and methods to be utilized to implement the project. Also, the applicant must explain the rationale for using the approach. In addition, this section of the application must demonstrate the applicant's thorough knowledge and understanding of the issues involved in providing education to children engaged in child labor or those at risk of being recruited into the labor force; best-practice solutions to address their needs; and the implementing environment in Pakistan.

b. Implementation Plan. The applicant must submit an implementation plan, preferably with a visual such as a Gantt chart for the project in Pakistan. The implementation plan should list the outcomes, objectives and activities during the life of the project, and scheduling of time and staff starting with the execution of the grant and ending with the final report. In describing the implementation plan, the applicant must address the following points:

(1) Describe the use of existing or potential infrastructure and use of qualified personnel, including qualified nationals, to implement the project. The applicant also must include a project organizational chart, demonstrating management structure, key personnel positions, and indicating proposed links with Government, civil society leaders, educators, and other significant local actors.

(2) Develop a list of activities and explain how each relates to the overall development objective of reducing child labor in Pakistan through education.

(3) Explain how appropriate awareness raising, training and pedagogic materials will be developed.

(4) Demonstrate how the organization will strengthen national institutions and policies on education and to combat child labor.

(5) Demonstrate how the organization would systematically report on project performance to measure the achievement of the project objective(s).

(6) Demonstrate how the organization would build national and local capacity to ensure project efforts to reduce child labor and the effects of child labor through the provision of education are sustained after completion of the project.

c. Budget Plan. Develop a country-specific budget of up to US $5 million for the implementation of the project in Pakistan. This section of the proposal must explain the costs for performing all of the requirements presented in this solicitation and for producing all required reports and other deliverables presented in this solicitation; costs must include labor, equipment, travel, and other related costs. Preference may be given to applicants with lower administrative costs.

d. Management and Staff Loading Plan. This section also must include a management and staff loading plan. The management plan is to include the following:

(1) A project organization chart and accompanying narrative which differentiates between elements of the applicant's staff and sub-contractors or consultants who will be retained;

(2) A description of the functional relationship between elements of the project's organization; and

(3) The identity of the individual responsible for project management and the lines of authority between this individual and other elements of the project.

The staff loading plan must identify all key tasks and the person-days required to complete each task. Labor estimates for each task must be broken down by individuals assigned to the task, including sub-contractors and consultants. All key tasks must be charted to show time required to perform them by months or weeks.

This section will be evaluated in accordance with applicable Federal laws and regulations. The budget must comply with Federal cost principles (which can be found in the applicable OMB Circulars) and with ILAB budget requirements contained in the application instructions in Section III of this solicitation.

2. Experience and Qualifications of the Organization (35 points).

The evaluation criteria is this category are as follows:

a. The organization applying for the award has experience in basic, non-formal and vocational education programs that address issues of access, quality and policy reform for working children.

b. The organization has a field presence in Pakistan, or could rapidly establish an office that gives it the capability to work directly with government ministries, educators, civil society leaders, and other local organizations, e.g., community-based or faith-based groups; the organization can document that it has already established relations of this nature in Pakistan or can show that it has the capacity to readily establish such relations.

The proposal must include information about previous grants or contracts relevant to this solicitation including:

a. The organization for which the work was done;

b. A contact person in that organization with their current phone number;

c. The dollar value of the grant, contract, or cooperative agreement for the project;

d. The time frame and professional effort involved in the project;

e. A brief summary of the work performed; and

f. A brief summary of accomplishments.

This information on previous grants and contracts shall be provided in appendices and will not count in the 30-page maximum page requirement.

3. Experience and Qualifications of Key Personnel (25 points).

This section of the application must include sufficient information to judge the quality and competence of staff proposed to be assigned to the project to assure that they meet the required qualifications of the individuals committed to the project. Accordingly, in its evaluation of the applicant's application, USDOL will place emphasis on the applicant's commitment to personnel qualified for the work involved in accomplishing the assigned tasks. Information provided on the experience and educational background of personnel must indicate the following:

a. The identity of Key Personnel assigned to the project. “Key Personnel” are staff who are essential to the successful operation of the project and completion of the proposed work and, therefore, may not be replaced or have their hours reduced without the approval of the Grant Officer.

b. The educational background and experience of all staff to be assigned to the project.

c. The special capabilities of staff that demonstrate prior experience in organizing, managing and performing similar efforts.

d. The current employment status of staff and availability for this project. The applicant must also indicate whether the proposed work will be performed by persons currently employed or is dependent upon planned recruitment or subcontracting. Key Personnel must sign letters of agreement to serve on the project, and indicate availability to commence work within three weeks of grant award.

The following information must be furnished:

a. The applicant must designate a Project Director (Key Personnel) to oversee the project and be responsible for implementation of the requirements of the cooperative agreement. The Project Director must have a minimum of three years of professional experience in a leadership role in implementation of complex basic education programs in developing countries in areas such as education policy; approaches to decentralization of education; improving educational quality and access; teacher training and materials development; education assessment of disadvantaged students; development of community participation in the improvement of basic education; and monitoring and evaluation of basic education projects. Points will be given for candidates with additional years of experience. Preferred candidates will also have knowledge of child labor issues and experience in the development of non-formal, formal, and vocational education of children removed from child labor.

b. The applicant must designate an Education Specialist (Key Personnel) who will provide leadership in developing the technical aspects of this project in collaboration with the Project Director. This person shall have at least three years experience in basic education projects in developing countries in areas including student assessment, teacher training, educational materials development, educational management, and educational monitoring and information systems. This person shall have experience in working successfully with ministries of education, networks of educators, employers' organizations and trade union representatives or comparable entities. Additional experience with child labor, psychosocial counseling, education statistics, vocational education of child removed from child labor, and education monitoring and evaluation is an asset.

c. The applicant must specify other personnel proposed to carry out the requirements of this solicitation.

d. The applicant must include a description of the roles and responsibilities of all personnel proposed for this project and a résumé for each professional person to be assigned to the program. Résumés will be attached in an appendix. At a minimum, each résumé must include: The individual's current employment status and previous work experience, including position title, duties performed, dates in position, and employing organizations and educational background. Duties must be clearly defined in terms of role performed, i.e., manager, team leader, consultant, etc. Indicate whether the individual is currently employed by the applicant, and (if so) for how long.

e. The applicant must indicate whether proposed personnel are currently employed by the organization or are dependent upon planned recruitment or sub-contracting. Note that management and professional technical staff members comprising the applicant's proposed team should be individuals who have prior experience with organizations working in similar efforts, and are fully qualified to perform work specified in the Statement of Work. Where sub-contractors or outside assistance are proposed, organizational control must be clearly delineated to ensure responsiveness to the needs of USDOL.

4. Leverage of Federal Funding (5 points).

The Department will give up to five (5) additional rating points to applications that include non-Federal resources that significantly expand the dollar amount, size and scope of the proposal. Of special interest is organizations' ability to provide income-generation and/or credit programs or other material incentives to benefit families of target children, or for older children who complete education programs and are ready for self-employment. These programs will not be financed by the project, but can supplement and enhance project objectives. The applicant may include any leveraging or co-funding anticipated. To be eligible for the additional points in the criterion, the applicant must list the source(s) of funds, the nature, and possible activities anticipated with these funds under this cooperative agreement and any partnerships, linkages or coordination of activities, cooperative funding, etc.

Signed at Washington, DC, this 17th day of May 2002.
Lawrence J. Kuss,
Grant Officer.

List of Appendices

Appendix A. SF 424—Application Form.

Appendix B. SF 424A—Budget Information Form.

Appendix C. Background Information on USDOL-Funded Projects in Pakistan.

Appendix D. Implementing Environment in Pakistan.

Appendix E. Organizations Involved in Education and/or Child Labor in Pakistan.

Appendix F. List of Background Materials Available Upon Request.

BILLING CODE 4510-28-P

BILLING CODE 4510-28-C

Instructions for Part II—Budget Information

Section A—Budget Summary by Categories

1. Personnel: Show salaries to be paid for project personnel which you are required to provide with W2 forms.

2. Fringe Benefits: Indicate the rate and amount of fringe benefits.

3. Travel: Indicate the amount requested for staff travel. Include funds to cover at least on trip to Washington, DC for project director of designee.

4. Equipment: Indicate the cost of non-expanded personal property that has a useful life of more than one year with a per unit cost of $5,000 or more. Also include a detailed description of equipment to be purchased including price information.

5. Supplies: Include the cost of consumable supplies and materials to be used during the project period.

6. Contractual: Show the amount to be used for (1) procurement contracts (except those which belong on other lines such as supplies and equipment); and (2) sub contracts/grants.

7. Other: Indicate all direct costs not clearly covered by line 1 through 6 above, including consultants.

8. Total, Direct Costs: Add lines 1 through 7.

9. Indirect Costs: Indicate the rate and amount of indirect costs. Please include a copy of your negotiated Indirect Cost Agreement.

10. Training/Stipend Cost: (If allowable)

11. Total Federal Funds Requested: Show total of lines 8 through 10.

Section B—Cost Sharing/Matching Summary

Indicate the actual rate and amount of cost sharing/matching when there is a cost sharing/matching requirement. Also include percentage of total project cost and indicate source of cost sharing/matching funds, i.e., other Federal source or other Non-Federal source.

Note: Please include a detailed cost analysis of each line item.

Appendix C: Background Information on USDOL-Funded Projects in Pakistan

The United States Department of Labor has funded several child labor projects in Pakistan, which are detailed below.

Elimination of Child Labor in the Soccer Ball Industry in Sialkot (US $1.8 million, 1997). The primary objective of the project is to prevent and eliminate child labor in the production of soccer balls in Sialkot through workplace monitoring and provision of alternatives to children and their families. The project, which is a result of an agreement between the Sialkot Chamber of Commerce and Industry (SCCI), ILO and UNICEF, has achieved several important results. Manufacturers who participate in the project have shifted their production of soccer balls from homes to stitching centers that are registered and monitored by the ILO/IPEC. Over 90 percent of the soccer ball export production is being monitored through this program. IPEC monitors conduct unannounced inspections of the centers to ensure that children are not stitching soccer balls.

The project has succeeded in removing more than 6,000 children from soccer ball stitching and providing them with non-formal education and/or skills training. Over 1,900 of these children have been mainstreamed into the formal education system. The project, currently in its second phase, continues to provide education to former child laborers, as well as any new children found working in the industry. In addition, 2,000 parents of former child stitchers will benefit from income generating activities. One of the objectives of the second phase of the project is to plan for a sustainable phase out strategy for IPEC. To that end, the project will work to establish a local independent monitoring body to succeed the current IPEC monitoring system. This project has benefited from the continued support and active participation of the SCCI in addressing the issue of child labor in the soccer ball industry. The industry has contributed about US $400,000 to project activities. They have also established the Child and Social Development Program within SCCI to ensure that child labor and other social issues are addressed effectively in the industry.

Combating Child Labor in the Carpet Industry (US $2 million, 1999). This three-year project seeks to reduce the incidence of child labor in the carpet sector in Punjab. Working in partnership with the Pakistan Carpet Manufactures and Exporters Association (PCMEA), the project has established a monitoring system to identify working children and ensure their gradual withdrawal from carpet weaving. Approximately 8,000 carpet-weaving children aged 14 and below and 2,000 of their younger siblings are targeted for non-formal education. Children will also benefit from other support services including health, recreation, and counseling. In addition, 2,000-3,000 parents of carpet-weaving children will receive training and access to micro-credit to start their own income-generating enterprises.

To date the project has managed to provide nearly 8,000 children with non-formal education and prevented about 1,000 younger siblings from entering work. More than 100 children have been mainstreamed into the formal education system. Based on surveys conducted in the two districts, the number of carpet weaving children far exceeds the project's target group. USDOL is exploring funding a second phase to the project, which would expand services provided to include additional carpet weaving children in the two current districts of Sheikhupura and Gujranwala, as well as expanded program activities to cover additional areas in Punjab where carpet-weaving takes place.

Appendix D: Implementing Environment in Pakistan

Although Pakistan's Employment of Children Act of 1991 prohibits the employment of children less than 14 years of age in occupations deemed to be hazardous to their health, according to Pakistan's National Policy and Action Plan to Combat Child Labor a National Child Labor Survey conducted in 1996 found about 3 million children aged five to 14 engaged in child labor in Pakistan (see Government of Pakistan, The Child Labour Unit of the Ministry of Labor, Manpower and Overseas Pakistanis, National Policy and Action Plan to Combat Child Labor, Islamabad, n.d., p. 10). Punjab province alone accounts for about 59 percent of the total child labor in Pakistan. Most of these children worked on a full-time basis. In 1999, the ILO estimated that 16 percent of children between the ages of 10 to 14 in Pakistan were working.

In Pakistan, children are most commonly found working in the agricultural and manufacturing sectors, in the manufacture of soccer balls, surgical instruments, textiles and bricks. They also work in automobile workshops, and tanneries. There are reports that some children and their families are part of a system of debt bondage in the brick kilns. Children also engage in garbage scavenging and carpet weaving, and are used in the smuggling of contraband and drugs.

In the province of Punjab, where this project will be implemented, a survey by the Punjab Labor and Manpower found that 54 percent of children enter the workforce to assist household enterprises; 27 percent enter to supplement household income; and 14 percent are the family's sole income earners. The majority of children have been employed in the surgical instruments industry, football-manufacturing sector, steel furnace and spare parts sector, as well as in auto repair workshops and brick kilns. At home, girls are generally employed in work such as carpet weaving. About 80 percent of Pakistan's carpet production takes place in the province of Punjab. Since poverty is so widespread in the rural areas there is little opportunity for children to attend school and a majority must turn to carpet weaving as a source of income. The children, mostly young girls, work an average of six to 10 hours per day and earn less than a dollar a day.

The extent of child labor in Pakistan has engaged Pakistani and international organizations to take action to reduce and/or eliminate it. In March 1998, the Government of Pakistan established a Task Force on Child Labor to formulate policies on the elimination of child and bonded labor. Following task force recommendations, the Federal Cabinet approved a National Policy and Action Plan to Combat Child Labor. This action plan targets children in the age group five to 14, who are economically active and part of the labor force, and who generally are not in school.

Pakistan's National Action Plan for the elimination of child labor focuses on the following components: awareness raising; withdrawal of child engaged in the worst forms of child labor; community mobilization; situational analysis and development of a database on child labor; law enforcement; capacity building of relevant ministries/departments; enhancing education and skills training opportunities for children; empowerment of poor families, and promoting coordination with functional and social partners (National Policy and Action Plan to Combat Child Labor, p. 11).

Members of the international community such as the ILO have also been involved on the child labor issue in Pakistan. In 1994, the Government of Pakistan signed a Memorandum of Understanding with the ILO that allowed ILO/IPEC to launch child labor eradication activities in collaboration with several government ministries, NGOs, employers, trade unions and a National Steering Committee. IPEC child labor programs, including USDOL-funded projects (see Appendix C), can be found throughout the country and cover multiple sectors including soccer ball manufacturing, domestic work, leather tanning, automobile work, and occupations in the informal sector. The ILO is in the process of designating Timebound status to Pakistan. A Timebound program is a set of integrated approaches and policies to prevent and eliminate a country's worst forms of child labor within a defined period of time. These programs place emphasis on social mobilization, and economic and social policies to combat poverty and promote universal basic education.

Although no single intervention can eradicate child labor, one critical component of a comprehensive strategy is to make education accessible to working children as is emphasized in Pakistan's National Plan to Combat Child Labor. Unfortunately, the education system in Pakistan is in a poor state with current indicators for literacy, enrollment, and retention rates far below those found in much of the developing world. A survey of Pakistan's education system conducted by the Social Policy and Development Center reported the following alarming statistics (Social Policy and Development Center, Social Development in Pakistan, Annual Report, Karachi, 1999 as cited in SPARC, The State of Pakistan's Children, 1999, Islamabad, January 2000, pp. 31-38). The nation's literacy rate is 45 percent, with a 50 percent literacy rate for males and 24 percent for females. Currently, Pakistan accounts for nearly 27 percent of the dropout rate in South Asia and it is estimated that by the year 2005, Pakistan will account for nearly 40 percent of the dropout rate in the entire region. Furthermore, 37 percent of boys and 55 percent of girls of primary age are not in school. More seriously, 70 percent of students drop out in the first five years of school. Dropping out of school makes them prime candidates to enter the labor market, which they often do. Overall, the average number of years of schooling in Pakistan is 1.9, compared to 3.9 years in developing countries. In Punjab the mean number of years of schooling is 2.3 (3.4 years for boys, and 1.1 years for girls). The primary enrollment ratio in Punjab is 69.4 for males, and 58.1 for females.

Emerging Approaches To Address Barriers to Education in Pakistan

A number of potential solutions have emerged to address the challenge of the education sector in Pakistan including the emergence of private schools, public-private partnerships, community and religious schools. Through existing child labor projects, NGOs and employers have also developed models for non-formal and formal schools for children engaged in child labor. Among the models that are currently being used or may be further developed to address the education needs of working children or those at risk of dropping out of school and entering the labor force are the following:

Public-private partnerships (Adopt-a-School). Capacity building and the strengthening of education institutions are integral to the emergence of public-private partnerships. In Pakistan, members of the private sector have taken the responsibility of overseeing the daily operations of several government schools. This initiative has led to the active participation of the private sector in the Adopt-a-School program that is implemented mainly in the rural areas of the nation. The adoption of schools by the private sector has relieved pressure on the government by developing sustainable education options, building and repairing infrastructure, improving transparency and accountability as well as providing incentives, training and professional development for staff members. The proposed package of incentives for the private sector, particularly in rural areas and also urban slums include provisions of land free of cost and or at concessional rates. Private sector institutions, which are involved in educational partnerships, will also receive exemption of custom duties on import of educational equipment and exemption of 50 percent income tax for faculty, support and administrative staff. Government reports estimate that the private sector supplements 40 percent of the nation's education.

Community-based schools. Community-based schools have also been established by members of NGOs or Community Based Organizations. Many of the schools have been successful in raising the literacy rate in the northern rural areas of the country by establishing a community-based social and economic approach. This method includes improvement in physical infrastructure, adult education classes, and skills training. A majority of NGO-sponsored schools have concentrated their efforts on expanding the availability of universal primary education (UPE), which includes increasing access, quality, sustainability, research, and policy advocacy. Many of the community-based schools also implement and promote interventions in maternal and child health, nutrition, microcredit finance, and skills training.

Non-formal school programs. These programs have been implemented by NGOs or employers as part of an ILO or other donor child labor project. They often run on the premises of government schools at times when formal school is not in session, or they may also hold classes in separate locales. They vary in instructional quality, the level of training provided to teachers and other incentives provided to children and families to promote school attendance. Some employer-sponsored schools such as in the carpet sector allow children to combine work with school. Employer sponsored schools include those of the SCCI (soccer ball production), Carpet Manufacturer's and Exporters Association, and Surgical Instruments Manufacturer Association of Pakistan.

Religious schools (madrassas). Madrassas are religious schools where a body of knowledge is passed down from teacher to student encouraging the memorization of religious text. While the curriculum in the school may be limited, its attraction is that students receive an education while being provided housing, food, and clothing. There are 8,000 madrassas registered with the government and some have tended to foster a conservative education that has sometimes resulted in religious extremism across parts of Pakistan and Afghanistan.

Private schools. The demand for private schools has increased in the last few years because of the quality of education they are able to provide. Students who attend private schools are usually from Pakistan's social elite. Most private schools are not supervised by any government agency and therefore free to establish their own curriculum, teaching methods and hiring practices. Education experts feel that involvement by the government would stifle the progress made by private schools and the institutions would lose their advantage of being able to provide quality education.

The development of these different approaches to improve school access and quality support Pakistan's Ministry of Education's education reform that has been in development since 1999. In November 2001, the Minister of Education announced the educational policies and reforms through which, for the first time in the history of Pakistan, the education budget would be increased by 150 percent. The bulk of the budget will be spent on literacy in formal and non-formal schools, technical and skills training, teacher training, development of school infrastructure and the establishment of public-private partnerships.

In January 2002, the Government of Pakistan Ministry of Education published Education Sector Reforms. Action Plan 2002-2004 (Government of Pakistan, Ministry of Education, Education Sector Reforms. Action Plan 2002-2004, Jan. 2002, p. 75). As part of the strategy the government will make educational programs available for children above age 10 who are at risk of dropping out of school, involved in child labor or living in remote areas of the country. To address weak education indicators, the Government of Pakistan is giving priority to UPE and has recently passed a regulation making primary education compulsory. Content areas of the reform include literacy in formal and non-formal schools, technical and skills training, teacher training, development of school infrastructure and the establishment of public-private partnerships.

This plan specifically addresses the education needs of child laborers. Its strategies are similar to those of the Child Labor Action Plan and include awareness-raising, development and dissemination of information, community mobilization, situation analysis, establishment of monitoring and evaluation system, withdrawal of children from exploitative labor on a priority basis, and special protection to the most vulnerable groups of child labor (Education Sector Reforms. Action Plan 2002-2004, Jan. 2002, p. 75).

As part of its educational reform plan, the Government of Pakistan has attached special importance to decentralization of the education sector. Through devolution of administrative authority, local government will undertake educational development. The devolution plan was launched in 2001 and actions are being developed to ensure that the process is successful.

As part of the decentralization and devolution process all provinces will become more active in education planning and implementation. Under Local Government Ordinance 2001, the province of Punjab has been assigned the responsibility of establishing Citizen Community Boards (CCBs). The function of the CCB is to ensure effective participation at the community level. The boards can form stakeholders associations such as Parent-Teacher Associations or Community Public Partnerships for community involvement in the improvement and maintenance of educational programs. Under this plan the local community will be involved in such issues as hiring of local teachers, involvement in the schools' annual development plan, and management and operation of school-related funds. The government ordinance also calls for the establishment of School Management or Monitoring Committees, which will ensure accountability and transparency at the district level.

The education reform plan also aims to encourage Pakistani expatriates to support the education sector in needy areas of Pakistan. Many overseas Pakistanis are economically prosperous and are a source of remittances that improve the social and economic conditions in their country of origin. Since the portfolio of the Ministry of Labor also includes Overseas Pakistanis, this approach could lead to interesting synergies between the Ministries of Education and Labor.

President Musharraf has also been instrumental in initiating educational reforms and poverty alleviation programs. This commitment to implement social change led to the creation of a Task Force on Human Development in June 2001. The task force is comprised of representatives from civil society, NGOs, academics, government, and field practitioners who are working to complete the reforms initiated by the government in various social sectors. The vision of the task force is to enable the people of Pakistan to reach their maximum potential by approaching development issues through a holistic approach. In January 2002, the Government of Pakistan and international donors including USDOL met at the Human Development Forum that included participation by President Musharraf and U.N. Secretary General Kofi Annan. At this forum practitioners presented innovative approaches to education and human resource development in Pakistan including many of the models cited above.

Appendix E: Organizations Working on Education and Child Labor in Pakistan

A number of organizations work on education and child labor programs in Pakistan. If partnerships are envisioned, the Applicant should not limit consideration to what is listed below.

The Aga Khan Foundation

The Aga Khan Foundation is a private, non-denominational development agency. Its mission is to promote creative and effective solutions to problems that impact social development. As part of the government curriculum reform initiative, the Aga Khan Foundation has started a Teacher Resource Center, which is focused on early childhood education that works with public and government schools.

The Ali Institute of Education

The Ali Institute was established in 1992 with a grant from the UNDP to improve quality education. The Institute is currently involved in the Adopt-a-School program, and is working to raise educational standards through teacher training for underprivileged communities at nine Training and Resource Centers.

The Asia Foundation

The Asia Foundation is a private, nonprofit, nongovernmental organization dedicated to advancing the mutual interest of the United States and the Asia Pacific region and has been operating in Pakistan since 1954. Working in close partnerships with Pakistani NGOs and individuals, the Foundation has sought to develop sustainable models of community participation for a wide variety of services and contribute to an agenda for institutional reform and long-term good governance. The Foundation focuses on five key issues related to universal primary education: quality, access, sustainability, research and policy advocacy. In December 2000, the Asia Foundation co-sponsored a policy dialogue to present research findings and suggest policy initiatives on basic education. The Asia Foundation has also been instrumental in conducting comparative analysis of government, private and NGO schools to identify policy lessons.

International Labor Organization (ILO)

The ILO brings together governments, workers, and employers in a common endeavor to improve social protection and conditions of life and work throughout the world. The ILO, through the work done by the International Program to Eliminate Child Labor (IPEC), has implemented a large number of programs and activities aimed at combating child labor by creating awareness, promoting education and integrating social and economic development policies.

Save the Children-UK

Save the Children-UK is the leading charity in the United Kingdom working to create a better world for children. Save the Children works in over 70 countries helping the children in the most impoverished communities. In Pakistan, Save the Children is involved in alternative education projects such as night schools for working children and credit and savings programs for the parents of working children. It has been the lead agency in combating child labor in the carpet industry in the Tharparkar district of southern Pakistan.

Skill Development Council of Punjab

The Council was established in June 1995 because of the lack of highly trained employees needed to run technical and skilled manpower projects. One of its first initiatives was to create advocacy groups that would lobby organizations to provide funds to support basic skills training. The Council is a tripartite organization with employers taking the lead and members of the government and council taking active roles. Currently, the Council supports 30 Non-Formal Education (NFE) and Skill Training Centers. The Skill Training Centers allow older youth to be better equipped and have the knowledge necessary to find employment in more technically advanced labor sectors. Members of the Council are also active in conducting seminars and raising awareness on the child labor situation in Pakistan.

Society for the Protection of the Rights of the Child (SPARC)

SPARC is a Pakistani NGO working for the rights of the child and for the worldwide promotion of human rights. SPARC is instrumental in raising public awareness and producing research on child laborers in Pakistan through books, newsletters, brochures, and reports.

SUDHARR

SUDHARR is a Pakistani NGO that established NFE programs in 1995. Since then the organization has had great success mainstreaming urban children into formal school settings. SUDHARR cites grassroots mobilization as its foundation for success using the concept of Family Education and Village Education Committees. Through its approach, the school becomes the center of community life. Current programs also focus on training and motivating teachers and district school administrators.

Technical Training Institute-Lahore

The Technical Training Institute is focused on improving training for those in the industrial sector. The institute has two areas of focus, which include technical training and apprenticeship training. Students interested in pursuing careers as electricians or other science/math-based careers must have matriculated before being accepted into the institute. Currently there are 11,000 students in the full-time training program (two years) and nearly 3,000 in the apprenticeship program a three-year program. The institute has initiated short courses, which are between six months to one year. Recent additions to the curriculum include graphic/fine arts, medical assistant and computer training.

UNESCO

UNESCO action in education strategy is shaped by three objectives which include promoting education as a fundamental human right; improving the quality of education for all children; and promoting experimentation, innovation and the diffusion and sharing of information and best practices as well as policy dialogue in education. The Government of Pakistan has responded favorably to UNESCO's Education For All commitment. Current UNESCO projects in Pakistan focus on street and working children as well as children working in the carpet industry in Lahore. UNESCO has also undertaken a teacher-training program that incorporates using the resources and infrastructure of national and regional teacher training colleges and has also been involved in the development and improvement of student assessment tools.

UNICEF

UNICEF operates in over 161 countries, areas and territories on solutions to problems facing children and their families and on ways to realize their rights. Work is carried out in partnership with governments, civil society organizations and communities to offer children the best possible start in life. Programs focus on policies, legislation and programmatic support to protect children in vulnerable situations. Their work reaches out to those who have been traditionally forgotten, including child laborers. In the last three years, UNICEF has worked with the Department of Education, Government of the Punjab to implement the Universal Primary Education Project. This project has worked in several districts and has fully involved communities and teachers in combating child labor and increasing enrollment. The project's major objectives have been: (1) To enroll every child in the age group of five to seven years and retain them for the entire primary cycle; (2) to provide quality education, and (3) to bring attitudinal change among communities to make them supportive of UPE. In Pakistan, UNICEF is interested in vocational skills training for older youth involved in work.

Appendix F: List of Background Materials Available Upon Request

The following additional background materials are available from USDOL upon request.

Government of Pakistan. Education Sector Reforms: Action Plan 2001-2004.

Government of Pakistan. National Policy and Action Plan to Combat Child Labor.

[FR Doc. 02-12961 Filed 5-22-02; 8:45 am]

BILLING CODE 4510-28-P